DEPARTMENT OF AGRICULTURE

Rural Business—Cooperative Service

Notice of Request for Extension of a Currently Approved Information Collection

AGENCY: Rural Business—Cooperative Service, USDA.

ACTION: Proposed collection; comments requested.

SUMMARY: In accordance with the Paperwork Reduction Act of 1995, this notice announces the Rural Business—Cooperative Service's intention to request an extension for a currently approved information collection in support of the Business and Industry Guaranteed Loan Program.

DATES: Comments on this notice must be received by February 21, 2003, to be assured of consideration.

FOR FURTHER INFORMATION CONTACT: Rick Bonnet, Senior Commercial Loan Specialist, Business and Industry Division Processing Branch, Rural Business—Cooperative Service, U.S. Department of Agriculture, STOP 3224, 1400 Independence Avenue, SW., Washington, DC 20250-3224; Telephone: (202) 720-1804; E-mail: rick.bonnet@usda.gov.

SUPPLEMENTARY INFORMATION: Title: Servicing Business and Industry Guaranteed Loans.

OMB Number: 0570-0016.

Expiration Date of Approval: April 30, 2003.

Type of Request: Extension of a Currently Approved Information Collection.

Abstract: The purpose of the program is to improve the economic and environmental climate in rural communities, including pollution abatement and control. This purpose is achieved through bolstering the existing private credit structure through guarantee of quality loans, which will provide lasting community benefits. This subpart contains requirements applicable to Business and Industry Guaranteed Loans administered by the Agency.

Information being collected on guaranteed loans is typically collected from lenders. There are no new data collection requirements contained in the renewal notice.

Estimate of Burden: Public reporting burden for this collection of information is estimated to average .81 hours per response.

Respondents: Guaranteed lenders.

Estimated Number of Respondents: 3,500.

Estimated Number of Responses per Respondent: 5.93.

Estimated Number of Responses: 20,740.

Estimated Total Annual Burden on Respondents: 16,860 hours.

Copies of this information collection can be obtained from Tracy Givelekian, Regulations and Paperwork Management Branch, at (202) 692-0039.

Comments: Comments are invited on: (a) Whether the proposed collection of information is necessary for the proper performance of the functions of the Rural Business—Cooperative Service (RBS), including whether the information will have practical utility; (b) the accuracy of RBS's estimate of the burden of the proposed collection of information including the validity of the methodology and assumptions, used; (c) ways to enhance the quality, utility, and clarity of the information to be collected; and (d) ways to minimize the burden of the collection of information on those who are to respond, including through the use of appropriate automated, electronic, mechanical, or other technological collection techniques or other forms of information technology. Comments may be sent to Tracy Givelekian, Regulations and Paperwork Management Branch, U.S. Department of Agriculture, Rural Development, STOP 0742, 1400 Independence Ave. SW., Washington, DC 20250. All responses to this notice will be summarized and included in the request for OMB approval. All comments will also become a matter of public record.

Dated: December 11, 2002.
John Rosso,
Administrator, Rural Business—Cooperative Service.

[FR Doc. 02-32191 Filed 12-20-02; 8:45 am]

BILLING CODE 3410-XY-P